DEPARTMENT OF JUSTICE

Office of Justice Programs

[OJP (NIJ) Docket No. 1580]

Draft Guidelines for Coroner/Medical Examiner Media Relations

AGENCY: National Institute of Justice, DOJ.

ACTION: Notice and request for comments.

SUMMARY: In an effort to obtain comments from interested parties, the U.S. Department of Justice, Office of Justice Programs, National Institute of Justice, Scientific Working Group for Medicolegal Death Investigation will make available to the general public a draft document entitled, “Guidelines for Media Relations: Dissemination of Public Information in Medicolegal Death Investigations.” The opportunity to provide comments on this document is open to coroner/medical examiner office representatives, law enforcement agencies, organizations, and all other stakeholders and interested parties. Those individuals wishing to obtain and provide comments on the draft document under consideration are directed to the following Web site: http://www.swgmdi.org

DATES: Comments must be received on or before March 6, 2012.

FOR FURTHER INFORMATION CONTACT: Patricia Kashtan, by telephone at 202-353-1856 [Note: this is not a toll-free telephone number], or by e-mail at Patricia.Kashtan@usdoj.gov.

John Laub,
Director, National Institute of Justice.

[FR Doc. 2012-2163 Filed 1-31-12; 8:45 am]

BILLING CODE 4410-18-P